DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 2, 2004.

Interested persons are invited to submit written comments regarding the subject matter of the investigations to the Director, Division of Trade Adjustment Assistance, at the address shown below, not later than August 2, 2004.

The petitions filed in this case are available for inspection at the Office of the Director, Division of Trade Adjustment Assistance, Employment and Training Administration, U.S. Department of Labor, Room C-5311, 200 Constitution Avenue, NW., Washington, DC 20210.

Signed at Washington, DC this 16th day of July 2004.
Timothy Sullivan,
Director, Division of Trade Adjustment Assistance.

Appendix
[Petitions instituted between 06/28/2004 and 06/30/2004]
TA-W | Subject firm (petitioners) | Location | Date of institution | Date of petition
55,148 | FAG Interamericana (Wkrs) | Miami FL | 06/28/2004 | 06/25/2004
55,149 | Oregon Panel Products (OR) | Lebanon, OR | 06/28/2004 | 06/28/2004
55,150 | T.L. Care, Inc. (Wkrs) | San Francisco, CA | 06/28/2004 | 06/24/2004
55,151 | Charleston Hosiery (Wkrs) | Ft. Payne, AL | 06/28/2004 | 06/18/2004
55,152 | Dresser Inc. (Wkrs) | Houston, TX | 06/28/2004 | 06/18/2004
55,153 | Industrial Engraving and Mfg. Corp. (Comp) | Putaski, WI | 06/28/2004 | 06/24/2004
55,154 | Apollo Knitwear, Inc. (Wkrs) | LaFayette, GA | 06/28/2004 | 06/17/2004
55,155 | Prince Mfg. (Comp) | Greenville, NC | 06/28/2004 | 06/25/2004
55,156 | Georgia Pacific (Wkrs) | Green Bay, WI | 06/28/2004 | 06/07/2004
55,157 | Crediteck (Wkrs) | Wilkes-Barre, PA | 06/28/2004 | 06/22/2004
55,158 | GlobalWare Solutions (Wkrs) | Haverhill, MA | 06/28/2004 | 06/09/2004
55,159 | Alexander-Harris Co. (Comp) | Pelham, GA | 06/28/2004 | 06/25/2004
55,160 | A.H. Schreiber Co. (Comp) | Bristol, TN | 06/29/2004 | 06/29/2004
55,161 | Chattanooga General Services, Inc. (Comp) | Chattanooga, TN | 06/29/2004 | 06/10/2004
55,162 | Vaughan-Bassett Furniture Co., Inc. (Comp) | Sumter, SC | 06/29/2004 | 06/29/2004
55,163 | Shure Inc. (Wkrs) | El Paso, TX | 06/29/2004 | 06/10/2004
55,164 | TITMUS Optical, Inc. (Comp) | Petersburg, VA | 06/29/2004 | 06/24/2004
55,165 | Creo Seattle (Creo America, Inc.) (WA) | Lynnwood, WA | 06/29/2004 | 06/28/2004
55,166 | E-Z-GO Textron (GA) | Augusta, GA | 06/29/2004 | 06/29/2004
55,167 | Textron Fastening Systems (UAW) | Warren, MI | 06/29/2004 | 06/25/2004
55,168 | Dell World Trade LP (TX) | Round Rock, TX | 06/29/2004 | 06/29/2004
55,169 | Ciprico (MN) | Plymouth, MN | 06/29/2004 | 06/29/2004
55,170 | Solvay Fluorides, Inc. (Comp) | Alorton, IL | 06/30/2004 | 06/23/2004
55,171 | TW Metals (Wkrs) | Cambridge, OH | 06/30/2004 | 06/29/2004
55,172 | Cardinal Health/Medical Products and Ser (Comp) | El Paso, TX | 06/30/2004 | 06/24/2004
55,173 | Facemake Corp. (Wkrs) | Greenwood, SC | 06/30/2004 | 06/29/2004
55,174 | Melling Forging Co. (MI) | Lansing, MI | 06/30/2004 | 06/29/2004
55,175 | Levi Strauss and Co. (Wkrs) | Knoxville, TN | 06/30/2004 | 06/22/2004
55,176 | Tooling Unlimited, Inc. (Comp) | Linolakes, MN | 06/30/2004 | 06/28/2004
55,177 | Angus Consulting Management, Inc. (Comp) | Oklahoma City, OK | 06/30/2004 | 05/31/2004
55,178 | Wellington Cordage LLC (Comp) | Leesville, SC | 06/30/2004 | 06/18/2004
55,179 | MCI (NPW) | Springfield, MO | 06/30/2004 | 06/10/2004
55,180 | Rainbow Swimwear, Inc. (Wkrs) | Brooklyn, NY | 06/30/2004 | 05/26/2004

[FR Doc. 04-16764 Filed 7-22-04; 8:45 am]

BILLING CODE 4510-30-M